DEPARTMENT OF COMMERCE

National Oceanic and Atmospheric Administration

50 CFR Part 648

[Docket No. 101029427-1413-03]

RIN 0648-XY82

Fisheries of the Northeastern United States; Summer Flounder, Scup, and Black Sea Bass Fisheries; 2011 Summer Flounder, Scup, and Black Sea Bass Specifications; Correction

AGENCY: National Marine Fisheries Service (NMFS), National Oceanic and Atmospheric Administration (NOAA), Commerce.

ACTION: Final rule, correcting amendment.

SUMMARY: On December 28, 2010, NMFS published in the Federal Register the final rule to implement the 2011 summer flounder, scup, and black sea bass specifications, which established commercial summer flounder allocations for each coastal state from North Carolina to Maine. Following publication, an error was identified in the amount of commercial summer flounder allocated to the State of Maryland. This rule corrects that error.

DATES: Effective August 30, 2011 through December 31, 2011.

FOR FURTHER INFORMATION CONTACT: Carly Knoell, Fisheries Management Specialist, (978) 281-9224, carly.knoell@noaa.gov.

SUPPLEMENTARY INFORMATION:

Background

Regulations for the summer flounder fishery are found at 50 CFR part 648. The regulations require annual specification of a commercial quota that is apportioned among the coastal states from North Carolina through Maine. The process to set the annual commercial quota and the percent allocated to each state are described in § 648.100.

Need for Correction

The final rule implementing 2011 summer flounder, scup, and black sea bass specifications published on December 28, 2010 (75 FR 81498). An error was found in the specifications in Table 1, on page 81500, regarding the amount of commercial summer flounder quota allocated to Maryland. Using the most recent summer flounder landings data for Maryland, NMFS determined that the 2011 commercial summer flounder quota for Maryland should be increased from 298,330 lb (135.3 mt) to 354,296 lb (160.7 mt). The entry in Table 1 for the commercial summer flounder quota for Maryland is corrected to read as follows:

Table 1—Final State-by-State Commercial Summer Flounder Allocations for 2011
State | FMP percent share | Initial quota (TAL): lb | Initial quota (TAL): kg | Initial quota, less RSA: lb | Initial quota, less RSA: kg | 2010 quota overages (through 10/31/10): lb | 2010 quota overages (through 10/31/10): kg | Adjusted quota, less RSA: lb | Adjusted quota, less RSA: kg
* * * * * * *
MD | 2.03910 | 360,676 | 163,603 | 354,296 | 160,709 | 0 | 0 | 354,296 | 160,760
* * * * * * *

Classification

Pursuant to 5 U.S.C. 553(b)(B), the Assistant Administrator for Fisheries, NOAA, finds good cause to waive prior notice and opportunity for additional public comment for this action because this would be impracticable and contrary to the public interest. The proposed rule for the 2011 summer flounder, scup, and black sea bass specification already took comment on the initial summer flounder quota with the understanding that overage adjustments would be made. This action is correcting an error found in the specifications regarding the amount of commercial summer flounder quota allocated to Maryland. Using the most recent summer flounder landings data for Maryland, NMFS determined that the 2011 commercial summer flounder quota for Maryland should be increased from 298,330 lb (135.3 mt) to 354,296 lb (160.7 mt). This action is correcting an error made in the overage calculation and not to the initial summer flounder quota. Delaying the implementation of this action to allow for prior notice and opportunity for comment of this correction could result in a premature closure of the summer flounder fishery in Maryland. Given that Maryland has surpassed the state's summer flounder quota in the past, if the revised quota is not implemented, there is a higher potential this could happen again, and could produce unnecessary adverse economic consequences for fishermen that participate in this fishery. The measures in the proposed rule for the 2011 summer flounder, scup, and black sea bass specifications, for which the opportunity for public comment was already given, are unaffected by this correction.

Moreover, pursuant to 5 U.S.C. 553(d), the Assistant Administrator finds good cause to waive the 30-day delay in effective date. This action is correcting an error found in the specifications regarding the amount of commercial summer flounder quota allocated to Maryland. Delaying the effective date of this correction for 30 days could result in a premature closure of the summer flounder fishery in Maryland. Given that Maryland has surpassed the state's summer flounder quota in the past, if the revised quota is not implemented immediately, there is a higher potential this could happen again, and could produce unnecessary adverse economic consequences for fishermen that participate in this fishery.

Because prior notice and opportunity for public comment are not required for this rule by 5 U.S.C. 553, or any other law, the analytical requirements of the Regulatory Flexibility Act, 5 U.S.C. 601 et seq., do not apply.

This final rule is exempt from review under Executive Order 12866.

Authority: 16 U.S.C. 1801 et seq.

Dated: August 24, 2011.
Samuel D. Rauch III,
Deputy Assistant Administrator for Regulatory Programs, National Marine Fisheries Service.

[FR Doc. 2011-22164 Filed 8-29-11; 8:45 am]

BILLING CODE 3510-22-P